DEPARTMENT OF TRANSPORTATION

Federal Aviation Administration

Eleventh Meeting: RTCA Special Committee 220: Automatic Flight Guidance and Control

AGENCY: Federal Aviation Administration (FAA), DOT.

ACTION: Notice of RTCA Special Committee 220 Meeting: Automatic Flight Guidance and Control.

SUMMARY: The FAA is issuing this notice to advise the public of a meeting of RTCA Special Committee 220: Automatic Flight Guidance and Control

DATES: The meeting will be held August 9-11, 2011, from 9 a.m. to 5 p.m., unless stated otherwise.

ADDRESSES: The meeting will be held at RTCA, Inc., 1150 18th Street, Suite 910, NW., Washington, DC, 20036. For hotel information please view the following Web site: http://www.rtca.org/directions/directions.asp#hotels.

FOR FURTHER INFORMATION CONTACT: RTCA Secretariat, 1150 18th Street, Suite 910, NW., Washington, DC, 20036, telephone (202) 833-9339, fax (202) 833-9434, Web site http://www.rtca.org.

SUPPLEMENTARY INFORMATION: Pursuant to section 10(a)(2) of the Federal Advisory Committee Act (Pub. L. 92-463, 5 U.S.C., and Appendix 2), notice is hereby given for a Special Committee 220, Automatic Flight Guidance and Control.

Agenda

Tuesday August 9-Thursday, August 11, 2011

Tuesday, August 9

• Introductions and Administrative Items.

• Review of Meeting Agenda.

• Review and approval of summary from the first plenary meeting RTCA paper no. 011-11/SC220-024.

• Presentation of progress of Working Group-2.

• Presentation of progress of Working Group-3.

• Break-out sessions for Working Groups 2 and 3.

Wednesday, August 10, 2011

• Continue Break-out sessions for Working Groups 2 and 3.

• Continue development of Installation Guidance White Papers.

Thursday, August 11, 2011

• Return to general plenary meeting.

• Review of Working Group 2 Status—Progress, Issues and Plans.

• Review of Working Group 3 Status—Progress, Issues and Plans.

• Review of Action Items.

• Administrative items (meeting schedule, location, and next meeting agenda).

• Any other business.

• Adjourn at 2 p.m.

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on June 23, 2011.
Kathy Hitt,
RTCA Advisory Committee.

[FR Doc. 2011-16596 Filed 6-30-11; 8:45 am]

BILLING CODE 4910-13-P